DEPARTMENT OF HEALTH AND HUMAN SERVICES

Administration for Children and Families

Proposed Information Collection Activity; Building and Sustaining the Child Care and Early Education Workforce (New Collection)

AGENCY: Office of Planning, Research, and Evaluation; Administration for Children and Families; United States Department of Health and Human Services.

ACTION: Request for public comments.

SUMMARY: The Administration for Children and Families (ACF) Office of Planning, Research, and Evaluation (OPRE) at the U.S. Department of Health and Human Services is proposing to collect information to examine a promising strategy to support the child care and early education (CCEE) workforce in Colorado as part of the Building and Sustaining the Child Care and Early Education Workforce (BASE) project. This project aims to build evidence about workforce development strategies designed to promote, retain, and advance the CCEE workforce by improving the economic well-being of CCEE workers.

DATES: Comments due within 60 days of publication. In compliance with the requirements of section 3506(c)(2)(A) of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: As part of the BASE project, OPRE is evaluating the implementation, impacts, and costs of two initiatives designed to improve the wages and economic well-being of the CCEE workforce in Colorado. Colorado Department of Early Childhood (CDEC) is implementing two initiatives to improve the compensation and economic well-being of the CCEE workforce: (1) eligible CCEE center-based settings are randomly selected through a lottery process, and (2) eligible home-based CCEE settings receive additional funding and supports. OPRE proposes to collect survey, interview, and cost data to understand: (a) the implementation and costs of the initiatives, (b) the effects of the initiative for teachers in center-based CCEE settings, and (c) the experiences of directors and teachers in center-based CCEE settings and owners and caregivers in home-based CCEE settings with the initiatives. The study will include CCEE workers who are offered the initiatives and those who are not, as assigned through CDEC's lottery, and key informants who are involved in the design and implementation of CDEC's initiatives. The effectiveness of the initiative will be determined by differences between members of the intervention and control groups for hypothesized outcomes in center-based CCEE settings. The experiences of directors/owners, teachers, and caregivers in center-based and home-based CCEE settings with the initiatives will be explored with qualitative and descriptive analyses. OPRE and Colorado are collaborating to evaluate the two initiatives. Colorado will collect baseline survey data and share it with OPRE. OPRE will collect follow-up surveys and interviews. Study participants will complete follow-up surveys approximately 9 and 18 months after the initiatives begin to understand how strategies that aim to improve compensation might improve outcomes such as workforce recruitment, retention, and economic and psychological well-being, as well as to capture contextual information about CCEE settings' working conditions and job demands and supports. Interviews will be conducted approximately 6 to 9 months after the initiatives began with center-based teachers/home-based caregivers and center-based directors/home-based owners to capture their experiences with the initiatives, perceptions, attitudes, beliefs about the initiatives, and how these experiences may shape the viability and implementation of the initiatives. Interviews with key informants at state-level implementing agencies will collect qualitative data to understand contextual factors and the impetus behind the design and implementation of the initiatives. Finally, cost workbooks completed by center-based CCEE setting administrators will collect cost data to assess the costs associated with implementing the initiative. This information collection will support ACF and the CCEE field in understanding whether workforce support strategies that increase compensation affect the retention and well-being of the CCEE workforce. This information will help to inform Federal, State, and local initiatives to build and retain a qualified CCEE workforce.

Respondents: CCEE center-based directors, administrators, teachers; CCEE home-based owners and caregivers; CCEE key informants.

Annual Burden Estimates
Instrument | Number of respondents (total over request period) | Number of responses per respondent (total over request period) | Average burden per response (in hours) | Total burden (in hours) | Annual burden (in hours)
1. Follow-up center director survey | 75 | 2 | 0.75 | 113 | 38
2. Follow-up lead and assistant teacher survey | 1,000 | 2 | 0.75 | 1,500 | 500
3. Follow-up home-based owner and caregiver survey | 95 | 2 | 0.75 | 143 | 48
4. One-on-one center director interview | 15 | 1 | 1 | 15 | 5
5. One-on-one lead and assistant teacher interview | 25 | 1 | 1 | 25 | 8
6. One-on-one home-based owner and caregiver interview | 25 | 2 | 1 | 38 | 13
7. One-on-one key informant interview | 5 | 1 | 1 | 5 | 2
8. Center-based setting costs workbook | 16 | 1 | 5 | 80 | 27

Estimated Total Annual Burden Hours: 641.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Head Start Act section 640 [42 U.S.C. 9835] and 649 [42 U.S.C. 9844]; appropriated by the Consolidated Appropriations Act of 2022. Head Start Act as amended by the Improving Head Start for School Readiness Act of 2007 (IHSSRA) (Public Law 110 134).

Mary B. Jones,
ACF/OPRE Certifying Officer.

[FR Doc. 2023-10278 Filed 5-12-23; 8:45 am]

BILLING CODE 4184-22-P